DEPARTMENT OF THE INTERIOR

Bureau of Land Management

[NM-030-1430-ES; NMNM 119204]

Recreation and Public Purposes (R&PP) Act Classification; Doña Ana County, NM.

AGENCY: Bureau of Land Management (BLM), Interior.

ACTION: Notice of Realty Action.

SUMMARY: The BLM has examined and found suitable approximately 10 acres of public land in Doña Ana County, New Mexico for classification for lease or subsequent conveyance under the provisions of the Recreation and Public Purposes (R&PP) Act, as amended (44 Stat. 741, as amended; 43 U.S.C. 869 et seq.) and section 212 of the Federal Land Policy and Management Act (FLPMA) of 1976, as amended. Doña Ana County proposes to use the land for the proposed Rodey Community Resource Center in Rodey, New Mexico.

DATE: Interested parties may submit written comments regarding the proposed lease/conveyance or classification of the lands on or before December 1, 2008.

ADDRESSES: Written comments concerning this Notice should be addressed to: District Manager, BLM Las Cruces District Office, 1800 Marquess Street, Las Cruces, New Mexico 88005.

FOR FURTHER INFORMATION CONTACT: Frances Martinez, Realty Specialist, at the above address or at (575) 525-4385.

SUPPLEMENTARY INFORMATION: The following public land in Doña Ana County, New Mexico has been examined and found suitable for classification for lease or subsequent conveyance to Doña Ana County under the provisions of the R&PP Act, as amended (43 U.S.C. 869 et seq.). Also, in accordance with Section 7 of the Taylor Grazing Act (43 U.S.C. 317f), the following described land has been examined and found suitable for classification as a non-profit, public purpose—specifically, a site for a proposed community center and park operated and managed by Doña Ana County, New Mexico. The land is hereby classified accordingly. The parcel of public land, located south of Rodey, New Mexico is described as follows:

New Mexico Principal Meridian:

T. 19 S., R. 3 W.

Sec. 15, NW¼SE¼SW¼.

The area described contains 10 acres, more or less, in Doña Ana County, New Mexico.

Doña Ana County proposes to develop the land to construct a proposed community center and park for the purpose of meeting recreational needs for the community of Rodey. The proposed project will include a parking lot, a community center, concession stand with restrooms and recreational facilities. The recreational facilities include a baseball field, soccer field, basketball and volleyball courts, a playground and a walking path connecting all the facilities, including a gazebo with grills and picnic areas. Conveying title to the affected public land is consistent with current BLM land use planning.

The lease or conveyance, when issued, will be subject to the following terms, conditions, and reservations:

1. Provisions of the R&PP Act and to all applicable regulations of the Secretary of the Interior.

2. A right-of-way for ditches and canals constructed by the authority of the United States, Act of August 30, 1890 (43 U.S.C. 945).

3. Lease and/or patent of the public land shall be subject to valid existing rights. Subject to limitations prescribed by law and regulation, prior to patent issuance, a holder of any right-of-way within the lease area may be given the opportunity to amend the right-of-way for conversion to a new term, including perpetuity, if applicable.

4. All minerals shall be reserved to the United States, together with the right to prospect for, mine, and remove the minerals.

5. Any other reservations that the authorized officer determines appropriate to ensure public access and proper management of Federal land and interests therein.

Detailed information concerning this proposed project, including, but not limited to documentation relating to compliance with applicable environmental and cultural resource laws, is available for review at the address above.

On October 15, 2008, the land described will be segregated from all other forms of appropriation under the public land laws, including the general mining laws, except for lease or conveyance under the R&PP Act and leasing under the mineral leasing laws.

Classification Comments: Interested parties may submit comments involving the suitability of the land for the proposed community center and park. Comments on the classification are restricted to whether the land is physically suited for the proposal, where the use will maximize the future use or uses of the land, whether the use is consistent with local planning and zoning, or if the use is consistent with State and Federal programs.

Additional Comments: Interested parties may submit comments regarding the specific use proposed in the application and plan of development, whether the BLM followed proper administrative procedures in reaching the decision, or any other factor not directly related to the suitability of the land for community centers and parks.

Before including your address, phone number, e-mail address, or other personal identifying information in your comment, you should be aware that your entire comment—including your personal identifying information—may be made publicly available at any time. While you can ask us in your comment to withhold your personal identifying information from public review, we cannot guarantee that we will be able to do so. Any adverse comments will be reviewed by the BLM State Director who may sustain, vacate, or modify this realty action. In the absence of any adverse comments, the classification will become effective on December 15, 2008.

(Authority: 43 CFR 2741.5)

Bill Childress,
District Manager, Las Cruces.

[FR Doc. E8-24543 Filed 10-14-08; 8:45 am]

BILLING CODE 4310-VC-P